Title 3—

The President

Memorandum of December 23, 2008

Assignment of Reporting Function Under Section 14(b) of the Tom Lantos Block Burmese Junta's Anti-Democratic Efforts (JADE) Act of 2008

Memorandum for the Secretary of State

By virtue of the authority vested in me as President by the Constitution and the laws of the United States, including section 301 of title 3, United States Code, I hereby assign to you the function conferred upon the President by section 14(b) of the Tom Lantos Block Burmese Junta's Anti-Democratic Efforts (JADE) Act of 2008 (Public Law 110-286).

You are authorized and directed to publish this memorandum in the Federal Register.

THE WHITE HOUSE,

Washington, December 23, 2008

[FR Doc. E9-595

Filed 1-12-09; 8:45 am]

Billing code 4710-10-P